INTERNATIONAL TRADE COMMISSION

[Investigation No. 701-TA-588 (Final)]

Polytetrafluoroethylene Resin From India

Determination

On the basis of the record ¹ developed in the subject investigation, the United States International Trade Commission (“Commission”) determines, pursuant to the Tariff Act of 1930 (“the Act”), that an industry in the United States is not materially injured or threatened with material injury, and the establishment of an industry in the United States is not materially retarded by reason of imports of polytetrafluoroethylene resin from India, provided for in subheadings 3904.61.00 and 3904.69.50 of the Harmonized Tariff Schedule of the United States, that have been found by the U.S. Department of Commerce (“Commerce”) to be subsidized by the government of India.² ³

¹ The record is defined in sec. 207.2(f) of the Commission's Rules of Practice and Procedure (19 CFR 207.2(f)).

² 83 FR 23423, May 21, 2018.

³ Commissioner Kearns did not participated in this investigation.

Background

The Commission, pursuant to section 705(b) of the Act (19 U.S.C. 1671d(b)), instituted this investigation effective September 28, 2017, following receipt of a petition filed with the Commission and Commerce by The Chemours Company FC LLC, Wilmington, Delaware. The final phase of the investigation was scheduled by the Commission following notification of a preliminary determination by Commerce that imports of polytetrafluoroethylene resin from India were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register on March 23, 2018 (83 FR 12815). The hearing was held in Washington, DC, on May 17, 2018, and all persons who requested the opportunity were permitted to appear in person or by counsel.

The Commission made this determination pursuant to section 705(b) of the Act (19 U.S.C. 1671d(b)). It completed and filed its determination in this investigation on July 6, 2018. The views of the Commission are contained in USITC Publication 4801 (July 2018), entitled Polytetrafluoroethylene Resin from India: Investigation No. 701-TA-588 (Final).

By order of the Commission.
Issued: July 6, 2018.
Lisa Barton,
Secretary to the Commission.

[FR Doc. 2018-14842 Filed 7-10-18; 8:45 am]

BILLING CODE 7020-02-P